DEPARTMENT OF AGRICULTURE

National Institute of Food and Agriculture

Request for Applications for the Veterinary Medicine Loan Repayment Program

AGENCY: National Institute of Food and Agriculture, USDA.

ACTION: Notice.

SUMMARY: The National Institute of Food and Agriculture (NIFA) is announcing the release of the Veterinary Medicine Loan Repayment Program (VMLRP) Request for Applications (RFA) at http://www.nifa.usda.gov/vmlrp.

DATES: The FY 2011 Veterinary Medicine Loan Repayment Program (VMLRP) application package has been made available at http://www.nifa.usda.gov/vmlrp and applications are due by Friday, July 8, 2011.

FOR FURTHER INFORMATION CONTACT: Gary Sherman; National Program Leader, Veterinary Science; National Institute of Food and Agriculture; U.S. Department of Agriculture; STOP 2240; 1400 Independence Avenue, SW.; Washington, DC 20250-2240; Voice: 202-401-4952; Fax: 202-401-6156; E-mail: gsherman@nifa.usda.gov.

SUPPLEMENTARY INFORMATION: On October 1, 2009, the Cooperative State Research, Education, and Extension Service (CSREES) became the National Institute of Food and Agriculture (NIFA) as mandated by the Food, Conservation, and Energy Act of 2008, section 7511(f) [Pub. L. 110-246]. Accordingly, the authority to administer the VMLRP transferred from CSREES to NIFA.

Background and Purpose

In January 2003, the National Veterinary Medical Service Act (NVMSA) was passed into law adding section 1415A to the National Agricultural Research, Extension, and Teaching Policy Act of 1997 (NARETPA). This law established a new Veterinary Medicine Loan Repayment Program (7 U.S.C. 3151a) authorizing the Secretary of Agriculture to carry out a program of entering into agreements with veterinarians under which they agree to provide veterinary services in veterinarian shortage situations. In November 2005, the Agriculture, Rural Development, Food and Drug Administration, and Related Agencies Appropriations Act, 2006 (Pub. L. 109-97) appropriated $495,000 for CSREES to implement the VMLRP and represented the first time funds had been appropriated for this program.

In February 2007, the Revised Continuing Appropriations Resolution, 2007 (Pub. L. 110-5) appropriated an additional $495,000 to CSREES for support of the program, in December 2007, the Consolidated Appropriations Act, 2008 appropriated an additional $868,875 to CSREES for support of this program, in March 2009, the Omnibus Appropriations Act, 2009 (Pub. L. 111-8) was enacted, providing an additional $2,950,000 for the VMLRP, and in October 2009, the Agriculture, Rural Development, Food and Drug Administration, and Related Agencies Appropriations Act of 2010 (Pub. L. 111-80) appropriated an additional $4,800,000 for the VMLRP. On April 15, 2011, the President signed into law, Public Law 112-10, Department of Defense and Full-Year Continuing Appropriations Act, 2011, which, after the .2% rescission, appropriated an additional $4,790,400 for the VMLRP.

Section 7105 of the Food, Conservation, and Energy Act of 2008, Public Law 110-246, (FCEA) amended section 1415A to revise the determination of veterinarian shortage situations to consider (1) Geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

NARETPA section 1415A requires the Secretary, when determining the amount of repayment for a year of service by a veterinarian to consider the ability of USDA to maximize the number of agreements from the amounts appropriated and to provide an incentive to serve in veterinary service shortage areas with the greatest need. This section also provides that loan repayments may consist of payments of the principal and interest on government and commercial loans received by the individual for the attendance of the individual at an accredited college of veterinary medicine resulting in a degree of Doctor of Veterinary Medicine or the equivalent. This program is not authorized to provide repayments for any government or commercial loans incurred during the pursuit of another degree, such as an associate or bachelor degree. Loans eligible for repayment include educational loans made for one or more of the following: Loans for tuition expenses; other reasonable educational expenses, including fees, books, and laboratory expenses, incurred by the individual; and reasonable living expenses as determined by the Secretary. In addition, the Secretary is directed to make such additional payments to participants as the Secretary determines appropriate for the purpose of providing reimbursements to participants for individual tax liability resulting from participation in this program. Finally, this section requires USDA to promulgate regulations within 270 days of the enactment of FCEA (i.e., June 18, 2008). The Secretary delegated the authority to carry out this program to NIFA.

The final rule was published in the Federal Register on April 19, 2010 [75 FR 20239-20248]. Based on comments received during the 60-day comment period upon publication of the interim rule [74 FR 32788-32798, July 9, 2009], NIFA reconsidered the policy regarding individuals who consolidated their veterinary school loans with other educational loans (e.g. undergraduate) and their eligibility to apply for the VMLRP. NIFA will allow these individuals to apply for and receive a VMLRP award; however, only the eligible portion of the consolidation will be repaid by the VMLRP. Furthermore, applicants with consolidated loans will be asked to provide a complete history of their student loans from the National Student Loan Database System (NSLDS), a central database for student aid operated by the U.S. Department of Education. The NSLDS website can be found at http://www.nslds.ed.gov. Individuals who consolidated their DVM loans with non-educational loans or loans belonging to an individual other than the applicant, such as a spouse or child, will continue to be ineligible for the VMLRP.

In 2010, VMLRP announced its first funding opportunity and received 260 applications from which NIFA issued 53 VMLRP awards totaling $5,186,000. Consequently, up to $8,000,000 is available to support this program in FY 2011. The eligibility criteria for applicants and the application forms and associated instructions needed to apply for a VMLRP award can be viewed and downloaded from the VMLRP Web site at http://www.nifa.usda.gov/vmlrp.

Done in Washington, DC, this 24th day of May 2011.
Meryl Broussard,
Deputy Director, National Institute of Food and Agriculture.

[FR Doc. 2011-13303 Filed 5-27-11; 8:45 am]

BILLING CODE 3410-22-P